DEPARTMENT OF HOMELAND SECURITY

Federal Emergency Management Agency

[Docket ID FEMA-2015-0001; Internal Agency Docket No. FEMA-B-1474]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: February 23, 2015.
Roy E. Wright,
Deputy Associate Administrator for Mitigation, Department of Homeland Security, Federal Emergency Management Agency.

State and county | Location and case No. | Chief executive officer of community | Community map repository | Online location of letter of map revision | Effective date of modification | Community No.
Alabama:
Montgomery | City of Montgomery (15-04-0687P) | The Honorable Todd Strange, Mayor, City of Montgomery, P.O. Box 1111, Montgomery, AL 36104 | City Hall, 103 North Perry Street, Montgomery, AL 36104 | http://www.msc.fema.gov/lomc | Apr. 30, 2015 | 010174
Montgomery | Unincorporated areas of Montgomery County (15-04-0687P) | The Honorable Elton Dean, Sr., Chairman, Montgomery County Board of Commissioners, 101 South Lawrence Street, Montgomery, AL 36104 | Montgomery County Courthouse Annex 1, 100 South Lawrence Street, Montgomery, AL 36104 | http://www.msc.fema.gov/lomc | Apr. 30, 2015 | 010278
Arizona:
Maricopa | City of Surprise (14-09-4439P) | The Honorable Sharon Wolcott, Mayor, City of Surprise, 16000 North Civic Center Plaza, Surprise, AZ 85374 | Community Development Services, 12425 West Bell Road, Suite D-100, Surprise, AZ 85374 | http://www.msc.fema.gov/lomc | Apr. 24, 2015 | 040053
Maricopa | Unincorporated areas of Maricopa County (14-09-4439P) | The Honorable Denny Barney, Chairman, Maricopa County Board of Supervisors, 301 West Jefferson, 10th Floor, Phoenix, AZ 85003 | Maricopa County Flood Control District, 2801 West Durango Street, Phoenix, AZ 85009 | http://www.msc.fema.gov/lomc | Apr. 24, 2015 | 040037
Pinal | City of Maricopa (14-09-3623P) | The Honorable Christian Price, Mayor, City of Maricopa, 39700 West Civic Center Plaza, Maricopa, AZ 85139 | City Hall, 44624 West Garvey Avenue, Maricopa, AZ 85239 | http://www.msc.fema.gov/lomc | Apr. 27, 2015 | 040052
California:
Contra Costa | City of Orinda (14-09-0967P) | The Honorable Sue Severson, Mayor, City of Orinda, 22 Orinda Way, Orinda, CA 94563 | Public Works Department, 22 Orinda Way, Orinda, CA 94563 | http://www.msc.fema.gov/lomc | Apr. 23, 2015 | 060722
San Joaquin | Unincorporated areas of San Joaquin County (14-09-2962P) | The Honorable Bob Elliott, Chairman, San Joaquin County Board of Supervisors, 44 North San Joaquin Street, Suite 627, Stockton, CA 95202 | San Joaquin County Department of Public, Works, 1810 East Hazelton, Avenue, Stockton, CA 95205 | http://www.msc.fema.gov/lomc | May 7, 2015 | 060299
Santa Clara | City of Santa Clara (15-09-0127P) | The Honorable Jamie L. Matthews, Mayor, City of Santa Clara, 1500 Warburton Avenue, Santa Clara, CA 95050 | Planning and Inspection Department, 1500 Warburton Avenue, Santa Clara, CA 95050 | http://www.msc.fema.gov/lomc | Apr. 16, 2015 | 060350
Solano | City of Dixon (14-09-2494P) | The Honorable Jack Batchelor, Jr., Mayor, City of Dixon, 600 East A Street, Dixon, CA 95620 | Engineering Department, 600 East A Street, Dixon, CA 95620 | http://www.msc.fema.gov/lomc | Apr. 2, 2015 | 060369
Colorado:
Douglas | Town of Castle Rock (14-08-0954P) | The Honorable Paul Donahue, Mayor, Town of Castle Rock, 100 North Wilcox Street, Castle Rock, CO 80104 | Utilities Department, 175 Kellogg Court, Castle Rock, CO 80109 | http://www.msc.fema.gov/lomc | May 1, 2015 | 080050
Douglas | Unincorporated areas of Douglas County (14-08-0954P) | The Honorable Roger Partridge, Chairman, Douglas County Board of Commissioners, 100 3rd Street, Castle Rock, CO 80104 | Douglas County Public Works Department, Engineering Division, 100 3rd Street, Castle Rock, CO 80104 | http://www.msc.fema.gov/lomc | May 1, 2015 | 080049
Jefferson | City of Arvada (14-08-1098P) | The Honorable Marc Williams, Mayor, City of Arvada, P.O. Box 8101, Arvada, CO 80001 | Engineering Department, 8101 Ralston Road, Arvada, CO 80001 | http://www.msc.fema.gov/lomc | May 8, 2015 | 085072
Florida:
Bay | City of Panama City Beach (14-04-4599P) | The Honorable Gayle Oberst, Mayor, City of Panama City Beach, 110 South Arnold Road, Panama City Beach, FL 32413 | Building Department, 110 South Arnold Road, Panama City Beach, FL 32413 | http://www.msc.fema.gov/lomc | Apr. 23, 2015 | 120013
Bay | City of Panama City Beach (14-04-8184P) | The Honorable Gayle Oberst, Mayor, City of Panama City Beach, 110 South Arnold Road, Panama City Beach, FL 32413 | Building Department, 110 South Arnold Road, Panama City Beach, FL 32413 | http://www.msc.fema.gov/lomc | Apr. 14, 2015 | 120013
Bay | Unincorporated areas of Bay County (14-04-4599P) | The Honorable Guy M. Tunnell, Chairman, Bay County Board of Commissioners, 840 West 11th Street, Panama City, FL 32401 | Bay County Planning and Zoning Department, 707 Jenks Avenue, Suite B, Panama City, FL 32401 | http://www.msc.fema.gov/lomc | Apr. 23, 2015 | 120004
Bay | Unincorporated areas of Bay County (14-04-AA70P) | The Honorable Guy M. Tunnell, Chairman, Bay County Board of Commissioners, 840 West 11th Street, Panama City, FL 32401 | Bay County Planning and Zoning Department, 707 Jenks Avenue, Suite B, Panama City, FL 32401 | http://www.msc.fema.gov/lom | May 4, 2015 | 120004
Broward | Town of Lauderdale-By-The-Sea (15-04-0738X) | The Honorable Scot Sasser, Mayor, Town of Lauderdale-By-The-Sea, 4501 Ocean Drive, Lauderdale-By-The-Sea, FL 33308 | City Hall, 4501 Ocean Drive, Lauderdale-By-The-, Sea, FL 33308 | http://www.msc.fema.gov/lomc | May 7, 2015 | 125123
Columbia | City of Lake City (13-04-6159P) | The Honorable Stephen M. Witt, Mayor, City of Lake City, 205 North Marion Avenue, Lake City, FL 32055 | City Hall, 205 North Marion Avenue, Lake City, FL 32055 | http://www.msc.fema.gov/lomc | Apr. 16, 2015 | 120406
Columbia | Unincorporated areas of Columbia County (13-04-6159P) | The Honorable Ronald Williams, Chairman, Columbia County Board of Commissioners, P.O. Box 1529, Lake City, FL 32056 | Columbia County Building and Zoning Department, 173 Northeast Hernando Avenue, Lake City, FL 32055 | http://www.msc.fema.gov/lomc | Apr. 16, 2015 | 120070
Lake | City of Fruitland Park (14-04-A712P) | The Honorable Chris Bell, Mayor, City of Fruitland Park, 506 West Berckman Street, Fruitland Park, FL 34731 | Building Department, 506 West Berckman Street, Fruitland Park, FL 34731 | http://www.msc.fema.gov/lomc | Apr. 30, 2015 | 120387
Montana: Butte-Silver Bow | Unincorporated areas of Butte-Silver Bow County (14-08-0867P) | The Honorable Cindi Shaw, Chair, Butte-Silver Bow County Council of Commissioners, 155 West Granite Street, Butte, MT 59701 | Butte-Silver Bow County Floodplain Administrator, 115 West Granite Street, Butte, MT 59701 | http://www.msc.fema.gov/lomc | Apr. 17, 2015 | 300077
Nevada: Washoe | Unincorporated areas of Washoe County (14-09-2693P) | The Honorable David Humke, Chairman, Washoe County Board of Commissioners, P.O. Box 11130, Reno, NV 89512 | Washoe County, Public Works Department, 1001 East 9th Street, Reno, NV 89512 | http://www.msc.fema.gov/lomc | Apr. 27, 2015 | 320019
North Carolina:
Henderson | City of Hendersonville (14-04-A582P) | The Honorable Barbara Volk, Mayor, City of Hendersonville, 145 5th Avenue East, Hendersonville, NC 28792 | Zoning Department, 100 North King Street, Hendersonville, NC 28792 | http://www.msc.fema.gov/lomc | April 22, 2015 | 370128
Transylvania | City of Brevard (14-04-A625P) | The Honorable Jimmy Harris, Mayor, City of Brevard, 95 West Main Street, Brevard, NC 28712 | Planning Department, 95 West Main Street, Brevard, NC 28712 | http://www.msc.fema.gov/lomc | Apr. 7, 2015 | 370231
South Carolina: Lancaster | Unincorporated areas of Lancaster County (14-04-3565P) | The Honorable Larry McCullough, Chairman, Lancaster County Council, 101 North Main Street, 2nd Floor, Lancaster, SC 29721 | Lancaster County Building and Zoning Department, 101 North Main Street, Lancaster, SC 29721 | http://www.msc.fema.gov/lomc | Apr. 23, 2015 | 450120
Utah:
Davis | City of Kaysville (14-08-0854P) | The Honorable Steve A. Hiatt, Mayor, City of Kaysville, 23 East Center Street, Kaysville, UT 84037 | City Hall, 23 East Center Street, Kaysville, UT 84037 | http://www.msc.fema.gov/lomc | May 8, 2015 | 490046
Salt Lake | City of Murray (14-08-0600P) | The Honorable Ted Eyre, Mayor, City of Murray, 5025 South State Street, 2nd Floor, Murray, UT 84107 | Public Works Office, 4646 South 500 West, Murray, UT 84123 | http://www.msc.fema.gov/lomc | Apr. 16, 2015 | 490103

[FR Doc. 2015-07402 Filed 3-31-15; 8:45 am]

BILLING CODE 9110-12-P